NUCLEAR REGULATORY COMMISSION

Notice of Opportunity for Comment on Model Safety Evaluation for Technical Specification Task Force (TSTF) Traveler To Provide Actions for One Steam Supply to Turbine Driven AFW/EFW Pump Inoperable Using the Consolidated Line Item Improvement Process

AGENCY: Nuclear Regulatory Commission.

ACTION: Request for comment.

SUMMARY: Notice is hereby given that the staff of the Nuclear Regulatory Commission (NRC) has prepared a model safety evaluation (SE) relating to proposed changes to Actions in the Standard Technical Specifications (STS) relating to One Steam Supply to Turbine Driven Auxiliary Feedwater / Emergency Feedwater (AFW/EFW) Pump Inoperable. This change would establish a Completion Time in the Standard Technical Specifications for the Condition where one steam supply to the turbine driven AFW/EFW pump is inoperable concurrent with an inoperable motor driven AFW/EFW train. The NRC staff has also prepared a model application and model no significant hazards consideration (NSHC) determination relating to this matter. The purpose of these models is to permit the NRC to efficiently process amendments that propose to adopt the associated changes into plant-specific technical specifications (TS). Licensees of nuclear power reactors to which the models apply can request amendments confirming the applicability of the SE and NSHC determination to their reactors. The NRC staff is requesting comments on the Model SE, Model Application and Model NSHC determination prior to announcing their availability for referencing in license amendment applications.

DATES: The comment period expires 30 days from the date of this publication. Comments received after this date will be considered if it is practical to do so, but the Commission can only ensure consideration for comments received on or before this date.

ADDRESSES: Comments may be submitted either electronically or via U.S. mail.

To submit comments or questions on a proposed standard technical specification change via the Internet, use Form for Sending Comments on NRC Documents, then select Proposed Changes to Technical Specifications. If you are commenting on a proposed change, please match your comments with the correct proposed change by copying the title of the proposed change from column one to the previous table into the appropriate field of the comment form.

Submit written comments to: Chief, Rulemaking, Directives and Editing Branch, Division of Administrative Services, Office of Administration, Mail Stop T-6D59, U.S. Nuclear Regulatory Commission, Washington, DC 20555-0001.

Hand deliver comments to 11545 Rockville Pike, Rockville, Maryland, between 7:45 a.m. and 4:15 p.m. on Federal workdays.

Copies of comments received may be examined at the NRC's Public Document Room, located at One White Flint North, 11555 Rockville Pike (first floor), Rockville, Maryland.

Comments may be submitted by electronic mail to CLIIP@nrc.gov.

FOR FURTHER INFORMATION CONTACT: Trent L. Wertz, Technical Specifications Branch, Division of Inspection and Regional Support, Office of Nuclear Reactor Regulation, Mail Stop O-12H2, U.S. Nuclear Regulatory Commission, Washington, DC 20555-0001, telephone 301-415-1568.

SUPPLEMENTARY INFORMATION:

Background

Regulatory Issue Summary 2000-06, “Consolidated Line Item Improvement Process for Adopting Standard Technical Specification Changes for Power Reactors,” was issued on March 20, 2000. The consolidated line item improvement process (CLIIP) is intended to improve the efficiency and transparency of NRC licensing processes. This is accomplished by processing proposed changes to the Standard Technical Specifications (STS) (NUREGs 1430-1434) in a manner that supports subsequent license amendment applications. The CLIIP includes an opportunity for the public to comment on proposed changes to the STS following a preliminary assessment by the NRC staff and finding that the change will likely be offered for adoption by licensees. The CLIIP directs the NRC staff to evaluate any comments received for a proposed change to the STS and to either reconsider the change or proceed with announcing the availability of the change to licensees. Those licensees opting to apply for the subject change to TS are responsible for reviewing the NRC staff's evaluation, referencing the applicable technical justifications, and providing any necessary plant specific information. Each amendment application submitted in response to the notice of availability would be processed and noticed in accordance with applicable rules and NRC procedures.

This notice for comment involves establishing a Completion Time in the Limiting Condition for Operation (LCO) 3.7.5 of the STS for the Condition where one steam supply to the turbine driven AFW/EFW pump is inoperable concurrent with an inoperable motor driven AFW/EFW train. In addition, this notice for comment involves changes to the STS that establish specific Conditions and Action requirements for two motor driven AFW/EFW trains are inoperable at the same time and for when the turbine driven AFW/EFW train is inoperable either (a) due solely to one inoperable steam supply, or (b) due to reasons other than one inoperable steam supply. The changes were proposed by the Technical Specification Task Force (TSTF) in TSTF Traveler TSTF-412, Revision 3, which is accessible electronically from the Agencywide Documents Access and Management System (ADAMS) Public Electronic Reading Room on the Internet at the NRC Web site http://www.nrc.gov/reading-rm/adams.html (Accession No. ML070100363). Persons who do not have access to ADAMS or who encounter problems in accessing the documents located in ADAMS, should contact the NRC Public Document Room Reference staff by telephone at 1-800-397-4209, 301-415-4737, or by e-mail to pdr@nrc.gov.

Applicability

This proposed change to adopt TSTF-412 is applicable to all pressurized water reactors (PWRs) designed by Babcock and Wilcox (B&W), Westinghouse, and Combustion Engineering (CE). If approved, to efficiently process the incoming license amendment applications, the NRC staff will request that each licensee applying for the changes addressed by TSTF-412, Revision 3, use the CLIIP to submit a License Amendment Request (LAR) that conforms to the enclosed Model Application (Enclosure 1). Any deviations from the Model Application should be explained in the licensee's submittal. Significant deviations from the approach, or inclusion of additional changes to the license, will result in staff rejection of the submittal. Instead, licensees desiring significant variations and/or additional changes should submit a LAR that does not claim to adopt TSTF-412. Variations from the approach recommended in this notice may require additional review by the NRC staff and may increase the time and resources needed for the review.

Public Notices

This notice requests comments from interested members of the public within 30 days of the date of publication in the Federal Register. Following the NRC staff's evaluation of comments received as a result of this notice, the NRC staff may reconsider the proposed change or may proceed with announcing the availability of the change in a subsequent notice (perhaps with some changes to the SE or proposed NSHC determination as a result of public comments).

If the NRC staff announces the availability of the change, licensees wishing to adopt the change will submit an application in accordance with applicable rules and other regulatory requirements. The NRC staff will in turn issue for each application a notice of proposed action, which includes a proposed NSHC determination. A notice of issuance of an amendment of operating license will also be issued to announce the adoption of TSTF-412 for each plant that applies for and receives the requested change.

Dated at Rockville, Maryland, this 8th day of March, 2007.
For the Nuclear Regulatory Commission.
Timothy J. Kobetz,
Chief, Technical Specifications Branch, Division of Inspection and Regional Support, Office of Nuclear Reactor Regulation.

The following example of a license amendment request (LAR) was prepared by the NRC staff to facilitate the adoption of Technical Specifications Task Force (TSTF) Traveler TSTF-412, Revision 3 “Provide Actions for One Steam Supply to Turbine Driven AFW/EFW Pump Inoperable.” The model provides the expected level of detail and content for a LAR to adopt TSTF-412, Revision 3. Licensees remain responsible for ensuring that their plant-specific LAR fulfills their administrative requirements as well as NRC regulations.

Proposed Model License Amendment Request

U.S. Nuclear Regulatory Commission

Document Control Desk

Washington, DC 20555

Subject: Plant Name

Docket No. 50-

Application for Technical Specification Improvement To Revise Actions for One Steam Supply to Turbine Driven Auxiliary Feedwater/Emergency Feedwater Pump Inoperable Using the Consolidated Line Item Improvement Process

Gentlemen:

In accordance with the provisions of 10 CFR 50.90 of Title 10 of the Code of Federal Regulations (10 CFR), [LICENSEE] is submitting a request for an amendment to the technical specifications (TS) for [PLANT NAME, UNIT NOS.].

The proposed amendment establishes Conditions, Required Actions, and Completion Times in the Standard Technical Specifications (STS) for the Condition where one steam supply to the turbine driven Auxiliary Feedwater/Emergency Feedwater (AFW/EFW) pump is inoperable concurrent with an inoperable motor driven AFW/EFW train. In addition, this amendment establishes changes to the STS that establish specific Actions when two motor driven AFW/EFW trains are inoperable at the same time and the turbine driven AFW/EFW train is inoperable either (a) due solely to one inoperable steam supply, or (b) due to reasons other than one inoperable steam supply. The change is consistent with NRC-approved Technical Specification Task Force (TSTF) Traveler, TSTF-412, Revision 3, “Provide Actions for One Steam Supply to Turbine Driven AFW/EFW Pump Inoperable.” The availability of this technical specification improvement was announced in the Federal Register on [DATE OF NOTICE OF AVAILABILITY] as part of the consolidated line item improvement process (CLIIP).

Enclosure 1 provides a description of the proposed change and confirmation of applicability.

Enclosure 2 provides the existing TS pages marked-up to show the proposed change.

Enclosure 3 provides the existing TS Bases pages marked-up to reflect the proposed change. There are no new regulatory commitments associated with this proposed change.

[LICENSEE] requests approval of the proposed license amendment by [DATE], with the amendment being implemented [BY DATE OR WITHIN X DAYS].

In accordance with 10 CFR 50.91, a copy of this application, with enclosures, is being provided to the designated [STATE] Official.

I declare under penalty of perjury under the laws of the United States of America that I am authorized by [LICENSEE] to make this request and that the foregoing is true and correct.

[Note that request may be notarized in lieu of using this oath or affirmation statement.]

If you should have any questions regarding this submittal, please contact [ ].

Sincerely,

Name, Title

Enclosures: 1. Description and Assessment

2. Proposed Technical Specification Changes

3. Proposed Technical Specification Bases Changes

cc: NRR Project Manager

Regional Office

Resident Inspector

State Contact

Enclosure 1 to Model License Amendment Request—Description and Assessment

1.0 Description

The proposed License amendment establish a new Completion Time in Standard Technical Specifications Section [3.7.5] where one steam supply to the turbine driven AFW/EFW pump is inoperable concurrent with an inoperable motor driven AFW/EFW train. This amendment also establishes specific Conditions and Action requirements when two motor driven AFW/EFW trains are inoperable at the same time and the turbine driven AFW/EFW train is inoperable either (a) due solely to one inoperable steam supply, or (b) due to reasons other than one inoperable steam supply.

The changes are consistent with NRC approved Industry/Technical Specification Task Force (TSTF) Standard Technical Specification Change Traveler, TSTF-412, Revision 3, “Provide Actions for One Steam Supply to Turbine Driven AFW/EFW Pump Inoperable.” The availability of this technical specification improvement was announced in the Federal Register on [DATE ] ([xx FR xxxxx]) as part of the consolidated line item improvement process (CLIIP).

2.0 Assessment

2.1 Applicability of Published Safety Evaluation

[LICENSEE] has reviewed the safety evaluation published on [DATE ] ([xx FR xxxxx]) as part of the CLIIP. This verification included a review of the NRC staff's evaluation as well as the supporting information provided to support TSTF-412, Revision 3. [LICENSEE] has concluded that the justifications presented in the TSTF proposal and the safety evaluation prepared by the NRC staff are applicable to [PLANT, UNIT NOS.] and justify this amendment for the incorporation of the changes to the [PLANT] Technical Specifications.

2.2 Optional Changes and Variations

[LICENSEE] is not proposing any variations or deviations from the technical specification changes described in TSTF-412, Revision 3, or the NRC staff's model safety evaluation published in the Federal Register on [DATE ] ([xx FR xxxxx]).

3.0 Regulatory Analysis

3.1 No Significant Hazards Determination

[LICENSEE] has reviewed the proposed no significant hazards consideration determination published on [DATE] as part of the CLIIP. [LICENSEE] has concluded that the proposed determination presented in the notice is applicable to [PLANT] and the determination is hereby incorporated by reference to satisfy the requirements of 10 CFR 50.91(a).

3.2 Verification and Commitments

There are no new regulatory commitments associated with this proposed change.

4.0 Environmental Evaluation

[LICENSEE] has reviewed the environmental evaluation included in the model safety evaluation published in the Federal Register on [DATE ] ([xx FR xxxxx]) as part of the CLIIP. [LICENSEE] has concluded that the NRC staff's findings presented in that evaluation are applicable to [PLANT] and the evaluation is hereby incorporated by reference for this application.

Enclosure 2 to Model License Amendment Request: PROPOSED TECHNICAL SPECIFICATION CHANGES

Enclosure 3 to Model License Amendment Request: Changes to TS Bases Pages

Proposed Model Safety Evaluation

U.S. Nuclear Regulatory Commission, Office of Nuclear Reactor Regulation, Consolidated Line Item Improvement

Technical Specification Task Force Traveler TSTF-412, Revision 3, Provide Actions for One Steam Supply to the Turbine Driven AFW/EFW Pump Inoperable

1.0 Introduction

By application dated [DATE], [LICENSEE NAME] (the licensee), submitted a request for changes to the [PLANT NAME], Technical Specifications (TS) (Agencywide Documents Access and Management System (ADAMS) Accession No. [MLxxxxxxxxx]). The requested change would establish a Completion Time for the Condition where one steam supply to the turbine driven AFW/EFW pump is inoperable concurrent with an inoperable motor driven AFW/EFW train and establish specific Conditions and Required Actions when two motor driven AFW/EFW trains are inoperable at the same time and the turbine driven AFW/EFW train is inoperable either (a) due solely to one inoperable steam supply, or (b) due to reasons other than one inoperable steam supply.

These changes were described in a Notice of Availability published in the Federal Register on [DATE ] ([xx FR xxxxx]).

2.0 Regulatory Evaluation

In 10 CFR 50.36, the Commission established its regulatory requirements related to the content of Technical Specifications (TS). Pursuant to 10 CFR 50.36(c), TS are required to include items in the following categories: (1) Safety limits, limiting safety system settings, and limiting control settings; (2) limiting conditions for operation (LCOs); (3) surveillance requirements (SRs); (4) design features; and (5) administrative controls. The rule does not specify the particular requirements to be included in a plant's TS.

3.0 Technical Evaluation

TS 3.7.5, Auxiliary Feedwater (AFW)/Emergency Feedwater (EFW) System

The AFW/EFW System is designed to automatically supply sufficient water to the steam generator(s) to remove decay heat upon the loss of normal feedwater supply with steam generator pressure at the set point of the Main Steam Safety Valves (MSSVs). Subsequently, the AFW/EFW System supplies sufficient water to cool the unit to Residual Heat Removal (RHR) System entry conditions, with steam being released through the Atmospheric Dump Valves (ADVs).

AFW/EFW Systems typically consist of two motor driven AFW/EFW pumps and one steam turbine driven pump configured into three trains. The capacity of the motor driven and steam driven AFW/EFW pumps can vary by plant. Motor driven pumps typically provide 50% or 100% of the required AFW/EFW flow capacity as assumed in the accident analysis. Motor driven AFW/EFW pumps are typically powered from an independent Class 1E power supply and each pump train typically feeds half of the steam generators, although each pump has the capability to be realigned from the control room to feed other steam generators. The steam turbine driven AFW/EFW pump provides either 100% or 200% of the required capacity to all steam generators. The steam turbine driven pump receives steam from two main steam lines upstream of the main steam isolation valves. Each of the steam feed lines will supply 100% of the requirements of the turbine driven AFW/EFW pump.

LCO 3.7.5, Condition A (as Proposed)

Condition A is modified to refer to the inoperability of a turbine driven AFW/EFW train due to an inoperable steam supply, instead of referring to the inoperability of a turbine driven AFW/EFW pump. This change is being proposed in order to make Condition A train oriented instead of component oriented, consistent with the other Conditions that are included in STS 3.7.5. The train oriented approach is consistent with the preferred approach that is generally reflected in the STS, and therefore the proposed change is considered to be acceptable.

STS 3.7.5, Condition C (as Proposed)

A new Condition C with two possible Required Actions (C.1 OR C.2) is proposed for the turbine driven AFW/EFW train being inoperable due to one inoperable steam supply and one motor driven AFW/EFW train being inoperable at the same time. Required Action C.1 requires restoration of the affected steam supply to operable status within either 24 or 48 hours, depending on the capability of the motor driven AFW/EFW train that remains operable. Alternatively, Required Action C.2 requires restoration of the inoperable motor driven AFW/EFW train within either 24 or 48 hours, again depending on the capability of the motor driven AFW/EFW train that remains operable. New Condition C provides two proposed Completion Times that are dependent upon the capacity of the remaining operable motor driven AFW/EFW train to provide AFW/EFW to the steam generators.

A proposed 24 hour Completion Time is applicable to plants that may provide insufficient flow to the steam generators (SGs) in accordance with accident analyses assumptions if a main steam line break (MSLB) or feedwater line break (FLB) were to occur that renders the remaining steam supply to the turbine driven AFW/EFW pump inoperable (a concurrent single failure is not assumed). Insufficient feedwater flow could result, for example, if a single motor driven AFW/EFW train does not have sufficient capacity to satisfy accident analyses assumptions, or if the operable pump is feeding the faulted SG (i.e. the SG that is aligned to the operable steam supply for the turbine driven AFW/EFW pump). [This would typically apply to plants with each AFW/EFW motor driven pump having less than 100% of the required flow.] Likewise, a proposed 48 hour Completion Time is applicable when the remaining operable motor driven AFW/EFW train is capable of providing sufficient feedwater flow in accordance with accident analyses assumptions. [This would typically apply to plants with each AFW/EFW motor driven pump having greater than or equal to 100% of the required flow.]

The STS typically allows a 72 hour Completion Time for Conditions where the remaining operable equipment is able to mitigate postulated accidents without assuming a concurrent single active failure. In this particular case, a 24 hour Completion Time is proposed for the situation where the AFW/EFW system would be able to perform its function for most postulated events, and would only be challenged by a MSLB or FLB that renders the remaining operable steam supply to the turbine driven AFW/EFW pump inoperable. Additionally, depending on the capacity of the operable motor driven AFW/EFW pump, it may be able to mitigate MSLB and FLB accidents during those instances when it is not aligned to the faulted SG. The selection of 24 hours for the Completion Time is based on the remaining operable steam supply to the turbine driven AFW/EFW pump and the continued functionality of the turbine driven AFW/EFW train, the remaining operable motor driven AFW/EFW train, and the low likelihood of an event occurring during this 24 hour period that would challenge the capability of the AFW/EFW system to provide feedwater to the SGs. The proposed Completion Time for this particular situation is consistent with what was approved for Waterford 3 by License Amendment 173 for a similar Condition (ADAMS Accession No. ML012840538), and it is commensurate with the STS in that the proposed Completion Time is much less than the 72 hours that is allowed for the situation where accident mitigation capability is maintained. Therefore, the NRC staff agrees that the proposed 24 hour Completion Time is acceptable for this particular situation.

A 48 hour Completion Time is proposed for the situation where the remaining operable motor driven AFW/EFW train is able to mitigate postulated accidents in accordance with accident analyses assumptions without assuming a concurrent single active failure. The selection of 48 hours is based on the continued capability of the AFW/EFW system to perform its function, while at the same time recognizing that this Condition represents a higher level of degradation than one inoperable AFW/EFW train which is currently allowed for up to 72 hours by STS 3.7.5. The proposed 48 hour Completion Time represents an appropriate balance between the more severe 24 hour situation discussed in the previous paragraph and the less severe Condition that is afforded a 72 hour Completion Time by the current STS. Therefore, the NRC staff agrees that the proposed 48 hour Completion Time is acceptable for this particular situation.

STS 3.7.5, Condition D (as Proposed)

The current Condition C is renamed as Condition D. This Condition has been modified to incorporate changes brought on by the addition of new Condition C. The first Condition has been modified and now applies to the situation where the Required Action and associated Completion Time of Condition A, B, or C are not met. This section of Condition D is modified to also apply to the new Condition C when the Completion Time that is specified for new Condition C is not met. The NRC staff considers this to be appropriate and consistent with existing STS 3.7.5 requirements to place the plant in a mode where the Condition does not apply when the Required Actions are not met.

The second Condition following the first “OR” in Condition D is modified from “Two AFW/EFW trains inoperable in MODE 1, 2, or 3” to “Two AFW/EFW trains inoperable in MODE 1, 2, or 3 for reasons other than Condition C.” This change is necessary to recognize the situation specified by Condition C (as proposed) where one motor driven AFW/EFW train is allowed to be inoperable at the same time that the turbine driven AFW/EFW train is inoperable due to an inoperable steam supply to the pump turbine. Therefore, the NRC staff considers the proposed change to be acceptable.

The Required Actions associated with this Condition were renamed from C.1 AND C.2 to D.1 AND D.2 but not otherwise changed. Required Action D.1 requires the plant to be in Mode 3 in 6 hours, and Required Action D.2 requires the plant to be in Mode 4 in 18 hours. This change is purely editorial as no other changes are involved. Therefore, this proposed change is acceptable.

STS 3.7.5, Condition E (as Proposed)

Because current Condition C is renamed as Condition D, current Condition D is renamed as Condition E. This change is purely editorial as no other changes are involved. Therefore, the proposed change is acceptable.

STS 3.7.5, Condition F (as Proposed)

Because current Condition D is renamed as Condition E, current Condition E is renamed as Condition F. This change is purely editorial as no other changes are involved. Therefore, the proposed change is acceptable.

STS 3.7.5, Bases (as Proposed)

Though changes to the STS Bases do not require NRC approval per se, changes to the STS Bases were reviewed to assess their consistency with the proposed changes to STS 3.7.5. The proposed changes to the STS Bases appeared to be consistent with the proposed changes to STS 3.7.5.

4.0 State Consultation

In accordance with the Commission's regulations, the [STATE] State official was notified of the proposed issuance of the amendments. The State official had [(1) no comments or (2) the following comments—with subsequent disposition by the NRC staff].

5.0 Environmental Consideration

The amendment changes a requirement with respect to the installation or use of a facility component located within the restricted area as defined in 10 CFR Part 20 and changes surveillance requirements. The NRC staff has determined that the amendment involves no significant increase in the amounts and no significant change in the types of any effluents that may be released offsite, and that there is no significant increase in individual or cumulative occupational radiation exposure. The Commission has previously issued a proposed finding that the amendment involves no significant hazards consideration, and there has been [(1) no public comment on such finding (2) the following comments with subsequent disposition by the NRC staff ([xx FR xxxxx, DATE]). Accordingly, the amendment meets the eligibility criteria for categorical exclusion set forth in 10 CFR 51.22(c)(9). Pursuant to 10 CFR 51.22(b) no environmental impact statement or environmental assessment need be prepared in connection with the issuance of the amendment.

6.0 Conclusion

The Commission has concluded, based on the considerations discussed above, that (1) there is reasonable assurance that the health and safety of the public will not be endangered by operation in the proposed manner, (2) such activities will be conducted in compliance with the Commission's regulations, and (3) the issuance of the amendments will not be inimical to the common defense and security or to the health and safety of the public.

The proposed changes are consistent with NRC practices and policies as generally reflected in the STS and as reflected by applicable precedents that have been approved. Therefore, the NRC staff has determined that the proposed changes to STS 3.7.5 should be approved.

Model No Significant Hazards Consideration Determination

Description of amendment request: The requested change, applicable to all pressurized water reactors (PWRs) designed by Babcock and Wilcox (B&W), Westinghouse, and Combustion Engineering (CE), would provide changes to the Actions in the Standard Technical Specifications (STS) relating to One Steam Supply to Turbine Driven Auxiliary Feedwater/Emergency Feedwater (AFW/EFW) Pump Inoperable. The proposed change is described in Technical Specification Task Force (TSTF) Standard TS Change Traveler TSTF-412, Revision 3, and was described in the Notice of Availability published in the Federal Register on [DATE] ([xx FR xxxxx]).

Basis for proposed no significant hazards consideration determination: As required by 10 CFR 50.91(a), an analysis of the issue of no significant hazards consideration is presented below:

1. Does the proposed change involve a significant increase in the probability or consequences of any accident previously evaluated?

Response: No.

The Auxiliary/Emergency Feedwater (AFW/EFW) System is not an initiator of any design basis accident or event, and therefore the proposed changes do not increase the probability of any accident previously evaluated. The proposed changes to address the condition of one or two motor driven AFW/EFW trains inoperable and the turbine driven AFW/EFW train inoperable due to one steam supply inoperable do not change the response of the plant to any accidents.

The proposed changes do not adversely affect accident initiators or precursors nor alter the design assumptions, conditions, and configuration of the facility or the manner in which the plant is operated and maintained. The proposed changes do not adversely affect the ability of structures, systems, and components (SSCs) to perform their intended safety function to mitigate the consequences of an initiating event within the assumed acceptance limits. The proposed changes do not affect the source term, containment isolation, or radiological release assumptions used in evaluating the radiological consequences of any accident previously evaluated. Further, the proposed changes do not increase the types and amounts of radioactive effluent that may be released offsite, nor significantly increase individual or cumulative occupational/public radiation exposures.

Therefore, the changes do not involve a significant increase in the probability or consequences of any accident previously evaluated.

2. Does the proposed change create the possibility of a new or different kind of accident from any accident previously evaluated?

Response: No.

The proposed changes do not result in a change in the manner in which the AFW/EFW System provides plant protection. The AFW/EFW System will continue to supply water to the steam generators to remove decay heat and other residual heat by delivering at least the minimum required flow rate to the steam generators. There are no design changes associated with the proposed changes. The changes to the Conditions and Required Actions do not change any existing accident scenarios, nor create any new or different accident scenarios.

The changes do not involve a physical alteration of the plant (i.e., no new or different type of equipment will be installed) or a change in the methods governing normal plant operation. In addition, the changes do not impose any new or different requirements or eliminate any existing requirements. The changes do not alter assumptions made in the safety analysis. The proposed changes are consistent with the safety analysis assumptions and current plant operating practice.

Therefore, the changes do not create the possibility of a new or different kind of accident from any accident previously evaluated.

3. Does the proposed change involve a significant reduction in a margin of safety?

Response: No.

The proposed changes do not alter the manner in which safety limits, limiting safety system settings or limiting conditions for operation are determined. The safety analysis acceptance criteria are not impacted by these changes. The proposed changes will not result in plant operation in a configuration outside the design basis.

Therefore, it is concluded that the proposed change does not involve a significant reduction in a margin of safety.

Based on the above, the proposed change involves no significant hazards consideration under the standards set forth in 10 CFR 50.92(c), and accordingly, a finding of no significant hazards consideration is justified.

Dated at Rockville, Maryland, this xx day of xxxxxxx, 2007.
For the Nuclear Regulatory Commission.
Project Manager.
Plant Licensing Branch [ ], Division of Operating Reactor Licensing, Office of Nuclear Reactor Regulation.

[FR Doc. E7-4675 Filed 3-13-07; 8:45 am]

BILLING CODE 7590-01-P